DEPARTMENT OF HEALTH AND HUMAN SERVICES

National Institutes of Health

National Institute of Diabetes and Digestive and Kidney Diseases; Notice of Meetings

Pursuant to section 10(d) of the Federal Advisory Committee Act, as amended (5 U.S.C. Appendix 2), notice is hereby given of the following meetings.

The meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Diabetes and Digestive and Kidney Diseases Initial Review Group, Digestive Diseases and Nutrition C Subcommittee.

Date: October 10-11, 2007.

Open: October 10, 2007, 8 a.m. to 8:30 a.m.

Agenda: To review procedures and discuss policy.

Place: Courtyard by Marriott Crystal City, 2899 Jefferson Davis Highway, Arlington, VA 22202.

Closed: October 10, 2007, 8:30 a.m. to 4 p.m.

Agenda: To review and evaluate grant applications.

Place: Courtyard by Marriott Crystal City, 2899 Jefferson Davis Highway, Arlington, VA 22202.

Closed: October 11, 2007, 8 a.m. to 4 p.m.

Agenda: To review and evaluate grant applications.

Place: Courtyard by Marriott Crystal City, 2899 Jefferson Davis Highway, Arlington, VA 22202.

Contact Person: Dan E. Matsumoto, PhD, Scientific Review Administrator, Review Branch, DEA, NIDDK, National Institutes of Health, Room 749, 6707 Democracy Boulevard, Bethesda, MD 20892-5452, (301) 594-8894, matsumotod@extra.niddk.nih.gov.

Name of Committee: National Institute of Diabetes and Digestive and Kidney Diseases Initial Review Group, Diabetes, Endocrinology and Metabolic Diseases B Subcommittee.

Date: October 10-12, 2007.

Open: October 10, 2007, 4 p.m. to 5 p.m.

Agenda: To review procedures and discuss policy.

Place: Ramada Inn Rockville, 1775 Rockville Pike, Rockville, MD 20852.

Closed: October 10, 2007, 5 p.m. to 8 p.m.

Agenda: To review and evaluate grant applications.

Place: Ramada Inn Rockville, 1775 Rockville Pike, Rockville, MD 20852.

Closed: October 11, 2007, 8 a.m. to 5:30 p.m.

Agenda: To review and evaluate grant applications.

Place: Ramada Inn Rockville, 1775 Rockville Pike, Rockville, MD 20852.

Closed: October 12, 2007, 8 a.m. to 12 p.m.

Agenda: To review and evaluate grant applications.

Place: Ramada Inn Rockville, 1775 Rockville Pike, Rockville, MD 20852.

Contact Person: John F. Connaughton, PhD, Scientific Review Administrator, Review Branch, DEA, NIDDK, National Institutes of Health, Room 916, 6707 Democracy Boulevard, Bethesda, MD 20892-5452, (301) 594-7797, connaughtonj@extra.niddk.nih.gov.

Name of Committee: National Institute of Diabetes and Digestive and Kidney Diseases Initial Review Group, Kidney, Urologic and Hematologic Diseases D Subcommittee.

Date: October 24-25, 2007.

Open: October 24, 2007, 8 a.m. to 8:30 a.m.

Agenda: To review procedures and discuss policy.

Place: Crystal City Courtyard by Marriott, 2899 Jefferson Davis Hwy, Arlington, VA 22202.

Closed: October 24, 2007, 8:30 a.m. to 7 p.m.

Agenda: To review and evaluate grant applications

Place: Crystal City Courtyard by Marriott, 2899 Jefferson Davis Hwy, Arlington, VA 22202.

Closed: October 25, 2007, 8 a.m. to 5 p.m.

Agenda: To review and evaluate grant applications.

Place: Crystal City Courtyard by Marriott, 2899 Jefferson Davis Hwy, Arlington, VA 22202.

Contact Person: Barbara A. Woynarowska, PhD, Scientific Review Administrator, Review Branch, DEA, NIDDK, National Institutes of Health, Room 754, 6707 Democracy Boulevard, Bethesda, MD 20982-5452, (301) 402-7172, woynarowskab@niddk.nih.gov.

(Catalogue of Federal Domestic Assistance Program Nos. 93.847, Diabetes, Endocrinology and Metabolic Research; 93.848, Digestive Diseases and Nutrition Research; 93.849, Kidney Diseases, Urology and Hematology Research, National Institutes of Health, HHS)

Dated: September 13, 2007.
Jennifer Spaeth,
Director, Office of Federal Advisory Committee Policy.

[FR Doc. 07-4668 Filed 9-20-07; 8:45 am]

BILLING CODE 4140-01-M